DEPARTMENT OF COMMERCE

National Oceanic and Atmospheric Administration

50 CFR Part 648

[Docket No. 030409081-3081-01; I.D. 032103B]

RIN 0648-AQ72

Fisheries of the Northeastern United States; Magnuson-Stevens Fishery Conservation and Management Act Provisions; Northeast Multispecies Fishery

AGENCY: National Marine Fisheries Service (NMFS), National Oceanic and Atmospheric Administration (NOAA), Commerce.

ACTION: Notification of changes to the Northeast Multispecies proposed emergency rule.

SUMMARY: NMFS announces changes to the Northeast Multispecies proposed emergency rule published on April 24, 2003, which continues the measures implemented on August 1, 2002. Pursuant to the Settlement Agreement Among Certain Parties (Settlement Agreement) ordered to be implemented by the United States District Court for the District of Columbia (Court), NMFS is required to notify the Non-Federal Settling Parties of any changes that may not substantially conform in all material respects to the measures identified in the Settlement Agreement and implemented in the August 1, 2002, interim final rule. On June 17, 2003, NMFS forwarded the required notification to the Non-Federal Settling Parties and the remaining litigation parties.

FOR FURTHER INFORMATION CONTACT: Thomas Warren, Fishery Policy Analyst, (978) 281-9347, fax (978) 281-9135, e-mail Thomas.Warren@noaa.gov.

SUPPLEMENTARY INFORMATION:

Background

On August 1, 2002, NMFS published an interim final rule (67 FR 50292), which implemented the Settlement Agreement in Conservation Law Foundation, et al. v. Evans, et al. Civil No. 00-1134 (D.D.C.). Pursuant to the Court's Remedial Order of May 23, 2002, the measures implemented in the August 1, 2002, interim final rule are expected to remain in place until implementation of Amendment 13 to the Northeast Multispecies Fishery Management Plan (FMP). Because the Court granted an extension of the Amendment 13 implementation date until May 1, 2004, and because the August 1, 2002, interim final rule is set to expire on July 27, 2003, NMFS published a proposed emergency rule on April 24, 2003, (68 FR 20096) in order to continue the measures until implementation of Amendment 13.

Pursuant to the Settlement Agreement, NMFS is notifying the Non-Federal Settling Parties of changes to the proposed emergency rule. Because the changes would modify the August 1, 2002, interim final rule in a manner that may arguably substantially differ from the interim final rule, NMFS believes that notification to the parties is appropriate. To ensure full disclosure of all communications to the public regarding NMFS' consideration of changes to the proposed emergency rule published on April 24, 2003, to continue interim measures implemented on August 1, 2002, NMFS announces that it has sent letters to the counsel of all parties and intervenors in Conservation Law Foundation, et al. v. Evans, et al. The letters inform the parties that NMFS intends to make the following changes to the proposed emergency rule to be effective July 28, 2003: (1) a reduction in the minimum size limit for haddock from 23 inches (58.4-cm) to 21 inches (52.5-cm) total length for charter/party and private recreational vessels; (2) an increase in the haddock trip limit for open access Handgear vessels from 200 lb (90.7 kg) up to 300 lb (136.1 kg) (i.e. vessels may possess and land up to 300 lb (136.1 kg) of haddock, cod, and yellowtail flounder, combined, although no more than 200 lb (90.7 kg) of which can be cod and yellowtail flounder, combined); and (3) removal of the Gulf of Maine haddock bag limit for charter/party vessels. These changes are made due to the unique circumstances of the haddock fishery, including, the fact that overfishing is not occurring in the haddock fishery, the disproportionate haddock restrictions among different fishing sectors, the potential to reduce discarded haddock bycatch, and the fact that the haddock stock can withstand higher fishing mortality rates.

This notification is not intended to solicit additional public comments, but rather, to provide the public with equivalent disclosure of changes to the proposed emergency rule.

Authority: 16 U.S.C. 1801 et seq.

Dated: June 17, 2003.
Rebecca Lent,
Deputy Assistant Administrator for Regulatory Programs, National Marine Fisheries Service.

[FR Doc. 03-15663 Filed 6-17-03; 3:31 pm]

BILLING CODE 3510-22-S